DEPARTMENT OF ENERGY

Federal Energy Regulatory Commission

[Docket No. RP00-337-002]

Kern River Gas Transmission Company; Notice of Proposed Pro Forma Changes in FERC Gas Tariff

May 18, 2001.

Take notice that on May 15, 2001, Kern River Gas Transmission Company (Kern River) tendered for filing as part of its FERC Gas Tariff, Second Revised Volume No. 1, the following pro forma tariff sheets:

Sheet No. 124

Sheet No. 125

Sheet No. 126

Sheet No. 126-A

Sheet No. 127

Sheet No. 128

Sheet No. 200

Sheet No. 201

Sheet No. 202

Kern River states that the purpose of this filing is to submit pro forma tariff sheets revising Kern River's scheduling procedures to specify how mainline, receipt point and delivery point capacity will be allocated in compliance with Order No. 637, and to propose a segmentation policy to be added to Kern River's tariff.

Kern River also states that in the April 17, 2001 technical conference in this docket, the parties agreed to file comments on this pro forma proposal by June 1, 2001.

Kern River states that it has served a copy of this filing upon each person designated on the official service list compiled by the Secretary in this proceeding.

Any person desiring to protest said filing should file a protest with the Federal Energy Regulatory Commission, 888 First Street, NE., Washington, DC 20426, in accordance with section 385.211 of the Commission's rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-13085 Filed 5-23-01; 8:45 am]

BILLING CODE 6717-01-M